DEPARTMENT OF VETERANS AFFAIRS

Secretary of Veterans Affairs Advisory Committee Chairs Summit; Retraction of Published Notice of Meeting

The Department of Veterans Affairs (VA) previously gave notice in 80 FR 3015 under the Federal Advisory Committee Act, 5 U.S.C. App. 2, that the Secretary of Veterans Affairs will would host an open meeting, “Secretary of Veterans Affairs Advisory Committee Chairs Summit,” on March 13, 2015, at the Department of Veterans Affairs Central Office, 810 Vermont Avenue NW., Washington, DC.

VA is retracting the notice because the meeting will not be open to the public. The scope and size of the meeting have been scaled back significantly, to be only a briefing by the Secretary regarding the MyVA initiative. The Secretary will not seek advice or recommendations regarding VA policy from the group of attendees.

Members of the public who have questions about this change may contact Jeffrey Moragne, Director, Advisory Committee Management Office (00AC), at (202) 266-4660.

Dated: February 5, 2015.
Rebecca Schiller,
Advisory Committee Management Officer.

[FR Doc. 2015-02659 Filed 2-9-15; 8:45 am]

BILLING CODE 8320-01-P